DEPARTMENT OF COMMERCE

National Oceanic and Atmospheric Administration

[I.D. 071503A]

Vessel Monitoring Systems (VMS); Certification of New VMS Unit for Use in Northeast Fisheries

AGENCY: National Marine Fisheries Service (NMFS), National Oceanic and Atmospheric Administration (NOAA), Commerce.

ACTION: Notice of VMS unit certification.

SUMMARY: NMFS announces the approval and certification of the Boatracs FMCT (Fisheries Mobile Communications Transceiver) VMS unit for use in all fisheries in the northeastern United States in which VMS units are required.

DATES: The new FMCT VMS unit can be used effective July 21, 2003.

FOR FURTHER INFORMATION CONTACT: Northeast Office for Law Enforcement, VMS Program, telephone 978-281-9213.

SUPPLEMENTARY INFORMATION: Regulations at 50 CFR 648.9 set forth VMS requirements for fisheries in the northeastern United States that require the use of VMS for fishery monitoring and/or reporting. Specifically, § 648.9(b) lists minimum VMS performance criteria that a VMS unit must meet in order to be certified for use.

NMFS has reviewed all components of the FMCT and other information provided by the vendor and has certified the following unit for use in all Northeast fisheries in which VMS units are required: Boatracs FMCT, available from Boatracs, 1935 Cordell Court, El Cajon, CA 92020-0911, Telephone: (619) 438-6000, 1-800-336-8722.

Authority: 16 U.S.C. 1801 et seq.

Dated: July 15, 2003.
Virginia M. Fay,
Acting Director, Office of Sustainable Fisheries, National Marine Fisheries Service.

[FR Doc. 03-18490 Filed 7-18-03; 8:45 am]

BILLING CODE 3510-22-S